DEPARTMENT OF COMMERCE

National Oceanic and Atmospheric Administration

Science Advisory Board

AGENCY: Office of Oceanic and Atmospheric Research, NOAA, DOC.

ACTION: Notice of open meeting.

SUMMARY: The Science Advisory Board (SAB) was established by a Decision Memorandum dated September 25, 1997, and is the only Federal Advisory Committee with responsibility to advise the Under Secretary of Commerce for Oceans and Atmosphere on long- and short-range strategies for research, education, and application of science to resource management. SAB activities and advice with provide necessary input to ensure that National Oceanic and Atmospheric Administration (NOAA) science programs are of the highest quality and provide optimal support to resource management.

Time and Date: The meeting will be held Tuesday, October 31, 200, from 1 p.m. to 5 p.m., Wednesday, November 1, 2000, from 8:30 a.m. to 4:30 p.m., and Thursday, November 2, 2000, from 8 a.m to 12:30 p.m.

Place: The meeting on Tuesday, October 31 and Thursday, November 2 will be held at the DoubleTree Alana Waikiki Hotel, 1956 Ala Moana Boulevard, Honolulu, Hawaii. On Wednesday, November 1, the meeting will be held at the Hawaii Imin International Conference Center at The East-West Center, 1777 East-West Road, Honolulu, Hawaii.

Status: The meeting will be open to public participation with two 30-minute time periods set aside for direct verbal comments or questions from the public. The SAB expects that public statements presented at its meetings will not be repetitive of previously submitted verbal or written statements. In general, each individual or group making a vertab presentation will be limited to a total time of five (5) minutes. Written comments (at least 35 copies) should be received in the SAB Executive Director's Office by October 20, 2000, in order to provide sufficient time for SAB review. Written comments received by the SAB Executive Director after October 20 will be distributed to the SAB, but may not be reviewed prior to the meeting date. Approximately thirty (30) seats will be available for the public including five (5) seats reserved for the media. Seats will be available on a first-come, first-served basis.

Matters to be Considered: The meeting will include the following topics: (1) Overview of NOAA's Hawaiian and Pacific region science and research programs, (2) Presentation and SAB discussion of the University of Hawaii Sea Level Center and the Tsunami Warning Program, (3) Discussion of the Report of the Panel on Ocean Exploration, (4) Public Input Sessions with SAB discussion, (5) Presentation and SAB discussion of aquaculture in the Hawaii region, (6) SAB Sub-Committee and Working Group Reports, (7) SAB debriefing of NOAA response to SAB recommendations to the Under Secretary, (8) Presentations and SAB discussions of University of Hawaii Joint Institute for Marine and Atmospheric Research (JIMAR) major NOAA activities and research programs, (9) Update on Implementation of the Marine Protected Area Executive Order and SAB Discussion, and (10) Status report on the Aquatic Nuisance Species Task Force and Invasive Species Council.

FOR FURTHER INFORMATION CONTACT: Dr. Michael Uhart, Executive Director, Science Advisory Board, NOAA, Rm. 11142, 1315 East-West Highway, Silver Spring, Maryland 20910. (Phone: 301-713-9121, Fax: 301-713-3515, E-mail: Michael.Uhart@noaa.gov); or visit the NOAA SAB website at http://www.sab.noaa.gov.

Dated: October 10, 2000.
David L. Evans,
Assistant Administrator, OAR.

[FR Doc. 00-26462 Filed 10-13-00; 8:45 am]

BILLING CODE 3510-12-M